NUCLEAR REGULATORY COMMISSION

[Docket No. 40-9027]

Notice of Issuance of Decommissioning Amendment for Cabot Corporation

The U.S. Nuclear Regulatory Commission (NRC) has approved the Cabot Corporation (Cabot) decommissioning plan (DP) for the Reading site by amendment to their Source Material License, SMC-1562.

The Reading site is located in Reading, PA, near the Buttonwood Street bridge. The site operated intermittently between April 1967 and May 1969 for the production of niobium by extraction from tin slag feedstock. The main processing building was removed from the license in August 1995 by license amendment.

The licensee first submitted a DP for the Reading site on August 28, 1998 (Accession No. 9809140068). The submittal was revised in March 2000 to reflect revised dose modeling scenarios and in June 2005 (ML051330369, ML051330364) to incorporate a rip-rap erosion barrier. Revision 3 to the DP was submitted later in June 2005, to reflect changes to the rip-rap design after licensee consultation with the City of Reading Redevelopment Authority (ML053560277).

The licensee submitted revision 4 of the Reading site DP and related documents to the NRC for review and approval in August 2006, (Agencywide Documents Access and Management System (ADAMS) accession numbers ML062360159, ML062360164, and ML062210261) as supplemented on September 21, 2006 (ADAMS accession number ML062640081). This amendment revised the rip-rap cover design and include cover design analysis. An environmental assessment was completed on October 16, 2007 (ML072390296). The NRC approved the DP by Amendment No. 9 to the Source Material License SMC-1562 on October 24, 2007.

A “Notice of Consideration of Amendment Request for Decommissioning the Cabot Performance Materials, Reading, Pennsylvania, Site, and Opportunity for a Hearing” was published in the Federal Register on October 28, 1998 (63 FR 57715). Two parties requested hearings; Jobert Trucking and the City of Reading Redevelopment Authority. Jobert Trucking was denied standing by the court on May 16, 2000 (ADAMS ML003715331) and the Redevelopment Authority request to withdraw hearing petition was granted on October 31, 2000 (ML003765068).

Copies of the license amendments approving Cabot's proposed decommissioning plan are available for public inspection at the Commission's Public Document Room (PDR), located at One White Flint North, 11555 Rockville Pike (first floor), Rockville, Maryland 20855-2738. The NRC maintains ADAMS, which provides text and image files of NRC's public documents. The amendment may be accessed electronically from the ADAMS Public Electronic Reading Room on the Internet at the NRC Web site, http://www.nrc.gov/reading-rm/adams.html under ADAMS accession number ML072420136. Persons who do not have access to ADAMS, or have problems in accessing the documents located in ADAMS, may contact the NRC PDR Reference staff by phone at 1-800-397-4209, 301-415-4737, or by e-mail to pdr@nrc.gov.

Dated at Rockville, Maryland, this 24th day of October, 2007.
For the Nuclear Regulatory Commission
Andrew Persinko,
Branch Chief, Reactor Decommissioning Branch, Division of Waste Management and Environmental Protection, Office of Federal and State Materials and Environmental Management Programs.

[FR Doc. E7-21428 Filed 10-30-07; 8:45 am]

BILLING CODE 7590-01-P